DEPARTMENT OF TRANSPORTATION

Surface Transportation Board

[STB Finance Docket No. 34009]

Toledo, Peoria & Western Railway Corporation—Trackage Rights Exemption—Peoria and Pekin Union Railway Company

Peoria and Pekin Union Railway Company (P&PU) has agreed to grant overhead trackage rights to Toledo, Peoria & Western Railway Corporation (TP&W) over P&PU's track between the point of connection between The Burlington Northern and Santa Fe Railway Company and P&PU near Darst Street in Peoria, IL, milepost 2.1, and the point of connection between P&PU and TP&W at North Main Street in East Peoria, IL, commonly known as P&PU Junction, milepost 0.0, a distance of approximately 4 miles.¹

¹ A redacted version of the amendment to the trackage rights agreement between TP&W and P&PU was filed with the verified notice of exemption. The full version of the agreement, as required by 49 CFR 1180.6(a)(7)(ii), was concurrently filed under seal along with a motion for a protective order. A protective order was served on February 14, 2001.

The transaction is scheduled to be consummated on or shortly after February 16, 2001.

The trackage rights will enable TP&W to enhance competitive service for intermodal traffic and provide more efficient and economical routings and service for this traffic.

Under 49 U.S.C. 10502(g), the Board may not use its exemption authority to relieve a rail carrier of its statutory obligation to protect the interests of its employees. Section 11326(c), however, does not provide for labor protection for transactions under sections 11324 and 11325 that involve only Class III rail carriers. Because this transaction involves Class III rail carriers only, the Board, under the statute, may not impose labor protective conditions for this transaction.

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34009 must be filed with the Surface Transportation Board, Office of the Secretary, Case Control Unit, 1925 K Street, N.W., Washington, DC 20423-0001. In addition, one copy of each pleading must be served on Louis E. Gitomer, Esq., Ball Janik LLP, 1455 F Street, N.W., Suite 225, Washington, DC 20005.

Board decisions and notices are available on our website at WWW.STB.DOT.GOV.

Decided: February 15, 2001.
By the Board, David M. Konschnik, Director, Office of Proceedings.
Vernon A. Williams,
Secretary.

[FR Doc. 01-4524 Filed 2-22-01; 8:45 am]

BILLING CODE 4915-00-P